DEPARTMENT OF THE INTERIOR

Fish and Wildlife Service

St. Catherine Creek National Wildlife Refuge

AGENCY: Fish and Wildlife Service, Interior.

ACTION: Notice of availability of the Draft Comprehensive Conservation Plan and Environmental Assessment for St. Catherine Creek National Wildlife Refuge in Adams and Wilkinson Counties, Mississippi.

SUMMARY: This notice announces that a Draft Comprehensive conservation Plan and environmental Assessment for St. Catherine Creek National Wildlife Refuge is available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System consistent with sound principles of fish and wildlife management, conservation, legal mandates, and Service policies. In addition to outlining broad management direction on conserving wildlife and their habitats, the plan identifies wildlife-dependent recreational opportunities available to the public, including opportunities for hunting, fishing, wildlife observation, wildlife photography, and environmental education and interpretation.

DATES: A meeting will be held to present the plan to the public. Mailings, newspaper articles, and posters will be the avenues to inform the public of the date and time for the meeting. Individuals wishing to comment on the Draft Comprehensive Conservation Plan and Environmental Assessment for St. Catherine Creek National Wildlife Refuge should do so within 45 days following the date of this notice.

ADDRESSES: Requests for copies of the Draft Comprehensive Conservation Plan and Environmental Assessment should be addressed to St. Catherine Creek National Wildlife Refuge, 76 Pintail Lane, Natchez, Mississippi 39120; Telephone 601/442-6696. The plan and environmental assessment may also be accessed and downloaded from the Service's Internet Web site http://southeast.fws.gov/planning/. Comments on the draft plan may be submitted to the above address or via electronic mail to mike_dawson@fws.gov. Please include your name and return address in your Internet message. Our practice is to make comments, including names and home addresses of respondents, available for public review during regular business hours. Individual respondents may request that we withhold their home addresses from the record, which we will honor to the extent allowable by law. Anonymous comments will not be considered.

SUPPLEMENTARY INFORMATION: Significant issues addressed in the draft plan include: Threatened and endangered species; waterfowl management; neotropical migratory birds; bottomland hardwood restoration; agriculture; visitor services (hunting, fishing, wildlife observation, wildlife photography, and environmental education and interpretation); funding and staffing; cultural resources; and land acquisition.

The Service developed four alternatives for managing the refuge and chose Alternative D as the preferred alternative.

Alternatives

The Draft Comprehensive Conservation Plan and Environmental Assessment evaluates the four alternatives for managing the refuge over the next 15 years. These alternatives are briefly described as follows:

Alternative A. Existing refuge management and public outreach practices would be favored under this alternative. All refuge management actions would be directed towards achieving the primary purposes including (1) preserving wintering waterfowl habitat (e.g., croplands, moist-soil management units, green-tree reservoirs, and permanent water); (2) providing production habitat for wood ducks; and (3) meeting the habitat conservation goals of the North American Waterfowl Management Plan, all the while contributing to other national, regional, and state goals to protect and restore habitat for shorebirds, wading birds, neotropical breeding birds, woodcock, and threatened and endangered species. Refuge management programs would continue to be developed and implemented with little baseline biological information. Active habitat management would continue to be implemented through water level manipulations, moist-soil and cropland management, and forest management designed to provide a diverse complex of habitats that meet the foraging, resting, and breeding requirements for a variety of species. A summary of the current acreages by habitat type can be found in Table 2, Chapter II, of the Draft Comprehensive Conservation Plan. Refuge staff would continue to manage existing bottomland hardwood and upland hardwood forested and reforested areas, open water and impoundments, croplands, and moist-soil units.

Land would be acquired from willing sellers within the current acquisition boundary. The refuge would continue to emphasize land exchanges of isolated refuge tracts for inholdings within the acquisition boundary.

Hunting and fishing would continue to be the major focuses of the refuge public use program, with no expansion of current opportunities. Current restrictions or prohibitions would remain. While no new trails would be developed, refuge staff would continue to maintain existing trails. Environmental education, wildlife observation, and wildlife photography would be accommodated on a case-by-case basis. Plans would continue to request funding for the construction of a refuge headquarters office/visitor contact area on the Sibley Unit and for the rehabilitation of existing facilities.

Alternative B. Under this alternative, the emphasis would be on improving refuge resources for wildlife, while still maintaining those public use opportunities that presently exist. Primary management efforts would focus on restoring and enhancing habitats and associated plant communities for the benefit of migratory birds, threatened and endangered species, and other federal trust species. Forest habitat would be managed to develop and enhance vertical structure by manipulating existing timber stands through both commercial and non-commercial harvest methods, and by incorporating greater native tree species in any future reforestation efforts. Conservation and protection efforts would also focus on unique loess bluff habitats by establishing buffer zones around spring seep wetlands at the bottom ridges.

The refuge would continue to administer the cooperative farming program and improve impoundments for moist-soils units for the increased benefit to waterfowl, shorebirds, and wading birds. Baseline data would be collected, standardized surveys implemented, and populations monitored.

The refuge would inventory and more aggressively monitor, control, and where possible, eliminate invasive plants, with particular attention to those having the greatest negative impacts on native habitat and wildlife. Population trend information for nutria, wild hogs, raccoon, and beaver will be developed to better control the detrimental effects of nuisance animals on habitat and wildlife.

Additional staff would include a wildlife biologist and a biological technician to accomplish objectives for establishing baseline data on refuge resources and managing habitats.

The refuge would work closely with partners to identify and acquire land from willing sellers within the current acquisition boundary, with emphasis on those lands that can provide additional habitat for trust species. Non-traditional land protection methods would be developed and employed, including land exchanges of isolated refuge tracts for inholdings within the acquisition boundary.

Public uses would include hunting, fishing, wildlife observation, wildlife photography, and limited interpretation. Under this alternative, outreach and environmental education would occur only as time permits. Hunting and fishing would continue to be the major focuses of the refuge public use program, with no expansion or enhancement of current opportunities. While no new trails would be developed, the refuge staff would continue to maintain the existing trails. All new funding would support wildlife and habitat management programs, with annual maintenance funding to support upkeep of existing public use facilities. This alternative does not address the increased visitation, which has occurred in the past five years and is predicted to continue into the future.

Alternative C. This approach would maintain the current wildlife and habitat management activities, while allowing for significantly more public recreational uses. The refuge would allocate a greater share of the budget to public use. Wildlife-dependent recreation uses, such as hunting, fishing, wildlife observation, wildlife photography, and environmental education and interpretation, would remain priority uses and would be increased whenever compatible and appropriate. Increased opportunities to hunt waterfowl, mourning doves, deer, and feral hogs would be developed.

Outreach opportunities would be designed to increase public understanding and enjoyment of fish and wildlife and their habitats. Efforts would include increased participation in the local tourism program and in meetings with city, county, and state officials.

Environmental education and interpretation program, both on and off the refuge, would be expanded. Some of these would include environmental internships for local high school students, as well as bird banding demonstrations. Existing interpretive trails would be lengthened, improved, and provided with trail guides. New trails and observation towers would be added. Orientation and information signs would be established at all major refuge entrances, check stations, boat ramps, and parking lots. Public use facilities, such as boat launches and piers, would be added for the disabled.

A new visitor center, with state-of-the-art interactive displays and classrooms, would be needed to accomplish the goals and objectives associated with this alternative. To improve the quality of the visitor experience, the refuge would work with the state and county to widen York Road from U.S. Highway 61 to the refuge. Additional staff needed to implement this alternative includes an outdoor recreation planner, a law enforcement officer, and a seasonal maintenance worker. Additional staff would be used for developing and presenting both on- and off-site outreach and interpretation programs.

Land acquisition within the current acquisition boundary would continue with emphasis on those lands that can provide additional public use opportunities and access.

Alternative D. The Service planning team has identified Alternative D as the preferred alternative. This alternative was developed based on public input and the best professional judgment of the planning team. Strategies presented in the Draft Comprehensive Conservation Plan were developed as a direct result of the selection of Alternative D.

Alternative D represents a combination and/or compromise between Alternative B (Habitat Management Emphasis) and Alternative C (Public Use Emphasis). Whereas these two alternatives seek to maximize either expanded wildlife habitat management or expanded public use opportunities, Alternative D seeks to optimize the benefits of the refuge to wildlife and people, recognizing that tradeoffs may preclude maximizing benefits to both simultaneously. By seeking the best of both Alternatives B and C, Alternative D would promote greater protection of fish, wildlife, and their habitats and more evenly balanced recreational and educational programs for visitors.

Under Alternative D, refuge lands would be more intensely managed than at present to provide high quality habitat for wildlife, particularly migratory birds. This would include creating and maintaining additional moist-soil units for an annual goal of 1,800 acres of quality moist-soil habitat to meet the goals established in the Biological Review, as well as developing methods to maximize use of Mississippi River overflow events to provide water for moist-soil units. The refuge would establish a banding quota for wood ducks to support the objectives of the Mississippi Flyway Council and provide and enhance habitat for woodcock populations to contribute to the objectives of the American Woodcock Management Plan. In addition, the refuge would implement step-down objectives for non-game migratory land birds, as well as for shorebirds and wading birds, to support the goals of the Partners-in-Flight Plan.

Fisheries would be emphasized and, where appropriate, restored for native diversity within the floodplain. Refuge habitats would be managed and restored for natural diversity in support of national and regional plans. Forest management would address the need to enhance and develop vertical structure to provide habitat for a diversity of species, particularly priority migratory birds. Any future reforestation efforts would incorporate greater native species diversity.

This alternative would encourage more public recreational and educational uses, where feasible, while intensifying current habitat management. Hunting and fishing would continue with greater emphasis on the quality of the experience and with more diverse opportunities, including those for youth and disabled hunters/anglers. Education and interpretation would be promoted by providing programs and partnerships with local schools. Wildlife observation and photography opportunities would be expanded, including construction of photo blinds and observation towers. Information guides and signage that highlight refuge management programs, as well as unique wildlife habitats, would also be developed. The refuge would also undertake efforts to improve road maintenance in order to provide better visitor access.

A visitor center and headquarters office would be constructed on the refuge, with space for interpretation, environmental education, and staff.

Research studies on the refuge would continue to be fostered and partnerships developed with universities and other agencies, with the refuge providing needed resources and study sites. Research on the refuge would also provide benefits to conservation efforts throughout the Lower Mississippi River Valley to preserve, enhance, restore, and manage bottomland hardwood habitat. Inventorying and monitoring of birds, freshwater mussels, reptiles, and amphibians would be continued and expanded in order to assess population trends, correlate with environmental pressures, and provide baseline data to be used in development of appropriate management strategies.

Providing additional staff (e.g., wildlife biologist, biological technician, outdoor recreation planner, seasonal maintenance worker, and full-time law enforcement officer) would enable the Service to fully develop and manage fish and wildlife resources and habitats, an offer environmental educational programs that promote a greater understanding of both natural and cultural resources.

Under this alternative, the refuge would continue to acquire lands within the present acquisition boundary for compatible wildlife-dependent public recreation and environmental education opportunities.

Tracts that provide better-quality habitat and connectivity to existing refuge lands would receive higher priority for acquisition. The refuge would use other important acquisition tools, including land exchanges, partnerships with conservation organizations, conservation easements with adjacent landowners, and leases/cooperative agreements.

Authority: This notice is published under the authority of the National Wildlife Refuge System Improvement Act of 1997, Public Law 105-57.

Dated: April 29, 2005.
Cynthia K. Dohner,
Acting Regional Director.
Editorial Note: This document was received at the Office of the Federal Register October 31, 2005.

[FR Doc. 05-21906 Filed 11-2-05; 8:45 am]

BILLING CODE 4310-55-M